DEPARTMENT OF ENERGY

Federal Energy Regulatory Commission

[Project No. 4226-007]

Fort Miller Associates, Albany Engineering Corporation; Notice of Transfer of Exemption

1. On January 15, 2025, pursuant to 18 CFR 4.106(i), Albany Engineering Corporation, on behalf of Fort Miller Associates, the transferee for the 4,800-kilowatt Fort Miller Hydroelectric Project No. 4226, filed a letter notifying the Federal Energy Regulatory Commission (Commission) that the exemption was transferred from Fort Miller Associates to Albany Engineering Corporation. The Fort Miller Hydroelectric Project No. 4226 was originally issued an exemption on March 31, 1982.¹ The project is located near the downstream juncture of the Hudson River and the Champlain Canal in Washington County, New York. The transfer of an exemption does not require Commission approval.

¹ Fort Miller Pulp and Paper Company, 18 FERC ¶ 62,560 (1982) (Order Granting Exemption from Licensing of a Small Hydroelectric Project of 5 Megawatts or Less). Subsequently, on August 12, 1983, the exemption was transferred to Fort Miller Associates.

2. Albany Engineering Corporation is now the exemptee of the Fort Miller Hydroelectric Project No. 4226. All correspondence regarding the project should be directed to Wendy Jo Carey, Albany Engineering Corporation, 5 Washington Square, Albany, NY 12205, Email: wendy@albanyengineering.com.

Dated: June 9, 2025.
Debbie-Anne A. Reese,
Secretary.

[FR Doc. 2025-10793 Filed 6-12-25; 8:45 am]

BILLING CODE 6717-01-P